DEPARTMENT OF JUSTICE

Notice of Lodging of Proposed Consent Decree Under the Clean Air Act

On July 2, 2025, the Department of Justice lodged a proposed Consent Decree with the United States District Court for the Northern District of Illinois in the lawsuit entitled United States v. Trialco Aluminum, LLC, Civil Action No. 1:25-cv-07461.

The proposed Consent Decree resolves claims against Trialco Aluminum, LLC (“Trialco”) related to emissions of hazardous air pollutants from its aluminum production facility located in Chicago Heights, Illinois. The Complaint filed in this matter seeks injunctive relief and civil penalties pursuant to Section 113(b) of the Clean Air Act (CAA), 42 U.S.C. 7413(b), for violation of (1) the National Emission Standards for Hazardous Pollutants (NESHAP) pertaining to secondary aluminum production facilities, 40 CFR part 63, subpart RRR; and (2) Trialco's Federally Enforceable State Operating Permit (FESOP) for its Chicago Heights facility. Under the proposed Consent Decree, Trialco will pay a $1 million civil penalty; perform an updated assessment of its capture and collection system; adopt and implement a new Operation, Maintenance, and Monitoring (OM&M) plan; and apply for a new FESOP with revised operating limits.

The publication of this notice opens a period for public comment on the Consent Decree. Comments should be addressed to the Assistant Attorney General, Environment and Natural Resources Division, and should refer to United States v. Trialco Aluminum, LLC, D.J. Ref. No. 90-5-2-1-12888. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing [or at a public meeting] may be filed in whole or in part on the public court docket without notice to the commenter.

During the public comment period, the Consent Decree may be examined and downloaded at this Justice Department website: http://www.justice.gov/enrd/consent-decrees. If you require assistance accessing the Consent Decree, you may request assistance by email or by mail to the addresses provided above for submitting comments.

Laura Thoms,
Assistant Section Chief, Environmental Enforcement Section, Environment and Natural Resources Division.

[FR Doc. 2025-12770 Filed 7-8-25; 8:45 am]

BILLING CODE 4410-15-P